NUCLEAR REGULATORY COMMISSION

Office of New Reactors; Interim Staff Guidance on the Use of the GALE86 Code for Calculation of Routine Radioactive Releases in Gaseous and Liquid Effluents to Support Design; Certification and Combined License Applications; Solicitation of Public Comment

AGENCY: Nuclear Regulatory Commission (NRC).

ACTION: Solicitation of public comment.

SUMMARY: The NRC is soliciting public comment on its Proposed Interim Staff Guidance COL/DC-ISG-005. This interim staff guidance supplements the guidance provided to the staff in Chapter 11, “Radioactive Waste Management,” of NUREG-0800, “Standard Review Plan (SRP) for the Review of Safety Analysis Reports for Nuclear Power Plants,” concerning the review of radioactive releases in gaseous and liquid effluents (GALE) to support design certification and combined license applications. This guidance provides a clarification on the use of a newer version of the boiling-water reactor and pressurized-water reactors GALE codes that is not referenced in the current NRC guidance. Upon receiving public comments, the NRC staff will evaluate and disposition the comments, as appropriate. Once the NRC staff completes the COL/DC-ISG-005, it will be issued for NRC and industry use. The NRC staff will also incorporate the approved COL/DC-ISG-005 into the next revision of the SRP and related guidance documents.

DATES: Comments must be filed no later than 30 days from the date of publication of this notice in the Federal Register. Comments received after this date will be considered, if it is practical to do so, but the Commission is able to ensure consideration only for comments received on or before this date.

ADDRESSES: Comments may be submitted to: Chief, Rules and Directives Branch, Office of Administration, U.S. Nuclear Regulatory Commission, Washington, DC, 20555-0001.

Comments should be delivered to: 11545 Rockville Pike, Rockville, Maryland, Room T-6D59, between 7:30 a.m. and 4:15 p.m. on Federal workdays. Persons may also provide comments via e-mail to Timothy Frye at tjf@nrc.gov. The NRC maintains an Agencywide Documents Access and Management System (ADAMS), which provides text and image files of NRC's public documents. These documents may be accessed through the NRC's Public Electronic Reading Room on the Internet at http://www.nrc.gov/reading-rm/adams.html. Persons who do not have access to ADAMS or who encounter problems in accessing the documents located in ADAMS should contact the NRC Public Document Room (PDR) reference staff at 1-800-397-4209, 301-415-4737, or by e-mail at pdr@nrc.gov.

FOR FURTHER INFORMATION CONTACT: Mr. Timothy Frye, Chief, Health Physics Branch, Division of Construction, Inspection & Operational Programs, Office of the New Reactors, U.S. Nuclear Regulatory Commission, Washington, DC 20555-0001; telephone 301-415-3900 or e-mail at tjf@nrc.gov.

SUPPLEMENTARY INFORMATION: The agency posts its issued staff guidance in the agency external Web page (http://www.nrc.gov/reading-rm/doc-collections/isg/).

The NRC staff is issuing this notice to solicit public comments on the proposed COL/DC-ISG-005. After the NRC staff considers any public comments, it will make a determination regarding the proposed COL/DC-ISG-005.

Dated at Rockville, Maryland, this 19th day of March 2008.
For the Nuclear Regulatory Commission.
William D. Reckley,
Branch Chief, Rulemaking, Guidance and Advanced Reactors Branch, Division of New Reactor Licensing, Office of New Reactors.

[FR Doc. E8-5962 Filed 3-24-08; 8:45 am]

BILLING CODE 7590-01-P